DEPARTMENT OF ENERGY

Federal Energy Regulatory Commission

Combined Notice of Filings #1

Take notice that the Commission received the following electric corporate filings:

Docket Numbers: EC25-86-000.

Applicants: Wheelabrator South Broward Inc., FCC South Broward Holding, LLC.

Description: Application for Authorization Under Section 203 of the Federal Power Act of Wheelabrator South Broward Inc.

Filed Date: 5/9/25.

Accession Number: 20250509-5206.

Comment Date: 5 p.m. ET 5/30/25.

Take notice that the Commission received the following exempt wholesale generator filings:

Docket Numbers: EG25-316-000.

Applicants: West Camp Wind Farm, LLC.

Description: West Camp Wind Farm, LLC submits Notice of Self-Certification of Exempt Wholesale Generator Status.

Filed Date: 5/12/25.

Accession Number: 20250512-5014.

Comment Date: 5 p.m. ET 6/2/25.

Docket Numbers: EG25-317-000.

Applicants: Petersburg Energy Center, LLC.

Description: Petersburg Energy Center, LLC submits Notice of Self-Certification of Exempt Wholesale Generator Status.

Filed Date: 5/12/25.

Accession Number: 20250512-5036.

Comment Date: 5 p.m. ET 6/2/25.

Docket Numbers: EG25-318-000.

Applicants: FL Solar 8, LLC.

Description: FL Solar 8, LLC submits Notice of Self-Certification of Exempt Wholesale Generator Status.

Filed Date: 5/12/25.

Accession Number: 20250512-5089.

Comment Date: 5 p.m. ET 6/2/25.

Docket Numbers: EG25-319-000.

Applicants: American Beech Solar LLC.

Description: American Beech Solar LLC submits Notice of Self-Certification of Exempt Wholesale Generator Status.

Filed Date: 5/12/25.

Accession Number: 20250512-5126.

Comment Date: 5 p.m. ET 6/2/25.

Docket Numbers: EG25-320-000.

Applicants: Prairie Solar 1, LLC.

Description: Prairie Solar 1, LLC submits Notice of Self-Certification of Exempt Wholesale Generator Status.

Filed Date: 5/12/25.

Accession Number: 20250512-5127.

Comment Date: 5 p.m. ET 6/2/25.

Take notice that the Commission received the following electric rate filings:

Docket Numbers: ER25-1654-001.

Applicants: SF Azalea, LLC.

Description: Tariff Amendment: SF Azalea, LLC Response to Deficiency Letter to be effective 5/17/2025.

Filed Date: 5/12/25.

Accession Number: 20250512-5063.

Comment Date: 5 p.m. ET 6/2/25.

Docket Numbers: ER25-2047-000.

Applicants: Pixley Solar Energy LLC, Flat Ridge 4 Wind, LLC.

Description: Filing Withdrawal: Flat Ridge 4 Wind, LLC submits tariff filing per 35.17(a): Filing Withdrawal to be effective N/A.

Filed Date: 5/8/25.

Accession Number: 20250508-5091.

Comment Date: 5 p.m. ET 5/29/25.

Docket Numbers: ER25-2183-000.

Applicants: 59TC 8me LLC.

Description: Supplement to May 8, 2025, 59TC 8me LLC tariff filing under ER25-2183.

Filed Date: 5/8/25.

Accession Number: 20250508-5180.

Comment Date: 5 p.m. ET 5/29/25.

Docket Numbers: ER25-2196-000.

Applicants: GridLiance High Plains LLC.

Description: 205(d) Rate Filing: GHP Effective Date Amendment of Attachment R to be effective 9/1/2026.

Filed Date: 5/9/25.

Accession Number: 20250509-5175.

Comment Date: 5 p.m. ET 5/30/25.

Docket Numbers: ER25-2197-000.

Applicants: AES WR Limited Partnership.

Description: Request for Limited Waiver, Shortened Comment Period and Expedited Commission Action of AES WR Limited Partnership.

Filed Date: 5/9/25.

Accession Number: 20250509-5199.

Comment Date: 5 p.m. ET 5/19/25.

Docket Numbers: ER25-2198-000.

Applicants: PJM Interconnection, L.L.C.

Description: 205(d) Rate Filing: Original GIA Service Agreement No. 7665; Project Identifier No. AE1-205 to be effective 4/11/2025.

Filed Date: 5/12/25.

Accession Number: 20250512-5037.

Comment Date: 5 p.m. ET 6/2/25.

Docket Numbers: ER25-2199-000.

Applicants: PJM Interconnection, L.L.C.

Description: 205(d) Rate Filing: Original GIA, Service Agreement No. 7662; AF2-377 to be effective 4/10/2025.

Filed Date: 5/12/25.

Accession Number: 20250512-5056.

Comment Date: 5 p.m. ET 6/2/25.

Docket Numbers: ER25-2200-000.

Applicants: ISO New England Inc.

Description: ISO New England, Inc. submits Capital Budget Quarterly Filing for First Quarter of 2025.

Filed Date: 5/12/25.

Accession Number: 20250512-5092.

Comment Date: 5 p.m. ET 6/2/25.

Docket Numbers: ER25-2201-000.

Applicants: PJM Interconnection, L.L.C.

Description: 205(d) Rate Filing: Original NSA, SA No. 7659; Queue No. AE2-040 to be effective 7/12/2025.

Filed Date: 5/12/25.

Accession Number: 20250512-5093.

Comment Date: 5 p.m. ET 6/2/25.

Docket Numbers: ER25-2202-000.

Applicants: PJM Interconnection, L.L.C.

Description: 205(d) Rate Filing: Revisions to OA, Schedule 12 & RAA, Schedule 17 RE: 1Q 2025 Member Lists to be effective 3/31/2025.

Filed Date: 5/12/25.

Accession Number: 20250512-5100.

Comment Date: 5 p.m. ET 6/2/25.

Docket Numbers: ER25-2203-000.

Applicants: PJM Interconnection, L.L.C.

Description: 205(d) Rate Filing: Original GIA, Service Agreement No. 7669; Project Identifier No. AG1-007 to be effective 4/11/2025.

Filed Date: 5/12/25.

Accession Number: 20250512-5136.

Comment Date: 5 p.m. ET 6/2/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: May 9, 2025.
Debbie-Anne A. Reese,
Secretary.

[FR Doc. 2025-08831 Filed 5-16-25; 8:45 am]

BILLING CODE 6717-01-P